DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on February 1, 2023, through February 28, 2023. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Thomas Fiumara, Medford, Massachusetts, Court of Federal Claims No: 23-0138V

2. Darren J. Bunton, Indianapolis, Indiana, Court of Federal Claims No: 23-0139V

3. Christina Orton, Phoenix, Arizona, Court of Federal Claims No: 23-0140V

4. Teagan Grabish, Lynden, Washington, Court of Federal Claims No: 23-0141V

5. Samantha Seager, Phoenix, Arizona, Court of Federal Claims No: 23-0142V

6. Sonya Davee, Mattoon, Illinois, Court of Federal Claims No: 23-0148V

7. Ariane Yango on behalf of N.Y., San Jose, California, Court of Federal Claims No: 23-0150V

8. Anthony Blei, Phoenix, Arizona, Court of Federal Claims No: 23-0151V

9. Melinda Adams, Portsmouth, Ohio, Court of Federal Claims No: 23-0153V

10. Barbara Bennett, Hudson, New York, Court of Federal Claims No: 23-0154V,

11. Huda Ahmed, Elmhurst, Illinois, Court of Federal Claims No: 23-0155V

12. Kristine Zuggi on behalf of I.Z., Deceased, Phoenix, Arizona, Court of Federal Claims No: 23-0161V

13. John Jennings, Boston, Massachusetts, Court of Federal Claims No: 23-0162V

14. Matthew J. Koehler, Rochester, New York, Court of Federal Claims No: 23-0163V

15. Ralph Devito, Manchester, New Jersey, Court of Federal Claims No: 23-0164V

16. Emily Mercer, Phoenix, Arizona, Court of Federal Claims No: 23-0168V

17. Haley Phillippi, Phoenix, Arizona, Court of Federal Claims No: 23-0169V

18. Edward Ladwig, Boston, Massachusetts, Court of Federal Claims No: 23-0170V

19. Charles Lindsey, Lawrenceville, Georgia, Court of Federal Claims No: 23-0171V

20. Claire Paul, Atlanta, Georgia, Court of Federal Claims No: 23-0172V

21. Aaron Ford, Phoenix, Arizona, Court of Federal Claims No: 23-0177V

22. Cristina Frank, Pennsville, New Jersey, Court of Federal Claims No: 23-0178V

23. Hyun Lee, Kernersville, North Carolina, Court of Federal Claims No: 23-0179V

24. Karen McLaughlin, East Ridge, Tennessee, Court of Federal Claims No: 23-0180V

25. Amy Vanus, Dresher, Pennsylvania, Court of Federal Claims No: 23-0181V

26. Aiman Al-Hiyari, Rochester, New York, Court of Federal Claims No: 23-0183V

27. Oneil Walker, New Haven, Connecticut, Court of Federal Claims No: 23-0184V

28. Patricia Corcoran, Brewster, New York, Court of Federal Claims No: 23-0186V

29. Molly McBride, Columbia, Missouri, Court of Federal Claims No: 23-0190V

30. Amie Luk, Katy, Texas, Court of Federal Claims No: 23-0191V

31. Dale McCormick, Bryan, Ohio, Court of Federal Claims No: 23-0193V

32. Joseph Meier, Walnut Creek, California, Court of Federal Claims No: 23-0195V

33. Ann Tonjes, Westmont, Illinois, Court of Federal Claims No: 23-0196V

34. Krystel Hannon, Spartanburg, South Carolina, Court of Federal Claims No: 23-0197V

35. Ashlee M. Hong, Thousand Oaks, California, Court of Federal Claims No: 23-0198V

36. James McGinnis, Waynesboro, Virginia, Court of Federal Claims No: 23-0199V

37. Lindsay Anderson on behalf of A.B., Indianapolis, Indiana, Court of Federal Claims No: 23-0200V

38. Michele Plucinsky, Plantation, Florida, Court of Federal Claims No: 23-0201V

39. Patricia Baumann, Dunkirk, Maryland, Court of Federal Claims No: 23-0204V

40. Erny Pope, Leesburg, Virginia, Court of Federal Claims No: 23-0205V

41. Julie Johnson, Rochester, Minnesota, Court of Federal Claims No: 23-0206V

42. Tracy Chapman, Jacksonville, Florida, Court of Federal Claims No: 23-0207V

43. Julia Hill, Lakewood, Washington, Court of Federal Claims No: 23-0208V

44. Lewis von Almen, Addison, Illinois, Court of Federal Claims No: 23-0212V

45. Melanie Hoard on behalf of R.H., Phoenix, Arizona, Court of Federal Claims No: 23-0213V

46. Jamie Walton, Houston, Texas, Court of Federal Claims No: 23-0214V

47. Jean Francois Daneault, Westfield, New Jersey, Court of Federal Claims No: 23-0215V

48. Anson K. Au, Sacramento, California, Court of Federal Claims No: 23-0216V

49. Christy Allen on behalf of E.A., Phoenix, Arizona, Court of Federal Claims No: 23-0219V

50. Annalise Gratovich, Phoenix, Arizona, Court of Federal Claims No: 23-0220V

51. Tricia Unrath on behalf of A.U., Phoenix, Arizona, Court of Federal Claims No: 23-0221V

52. Taryn Keeshan on behalf of L.K., Phoenix, Arizona, Court of Federal Claims No: 23-0223V

53. Ronald Havens, Arcadia, California, Court of Federal Claims No: 23-0225V

54. Samantha Dotson, Cynthiana, Kentucky, Court of Federal Claims No: 23-0227V

55. Jennifer Barrios and Michael Barrios on behalf of B.H.B., Long Beach, California, Court of Federal Claims No: 23-0230V

56. Aklilu Keflezighi, La Mesa, California, Court of Federal Claims No: 23-0233V

57. Rivkalaia Rokeach, Brooklyn, New York, Court of Federal Claims No: 23-0234V

58. Debbie Nease Bohannon on behalf of Braydon Bohannon, Oakdale, California, Court of Federal Claims No: 23-0235V

59. Antonia Dejesus, Englewood, New Jersey, Court of Federal Claims No: 23-0236V

60. Lisa Kurdziel, Hoboken, New Jersey, Court of Federal Claims No: 23-0237V

61. Lee Yuill, Huntsville, Alabama, Court of Federal Claims No: 23-0238V

62. Jose Garcia, Dinuba, California, Court of Federal Claims No: 23-0240V

63. Nicholas Watkins, Rockford, Michigan, Court of Federal Claims No: 23-0241V

64. Timothy Alexander, Albuquerque, New Mexico, Court of Federal Claims No: 23-0242V

65. Barry Griffiths, Manahawkin, New Jersey, Court of Federal Claims No: 23-0243V

66. Karol Schaeffer, York, Pennsylvania, Court of Federal Claims No: 23-0244V

67. Dreama Cleaver, Bellefontaine, Ohio, Court of Federal Claims No: 23-0245V

68. Kristen McCafferty, Phoenix, Arizona, Court of Federal Claims No: 23-0246V

69. Jennifer M. Cangas, Davenport, Iowa, Court of Federal Claims No: 23-0248V

70. Don Chambers, Abilene, Texas, Court of Federal Claims No: 23-0249V

71. Velinda Baker, Dayton, Ohio, Court of Federal Claims No: 23-0250V

72. Alvin Moody, Farmington, Connecticut, Court of Federal Claims No: 23-0251V

73. Benjamin Kane, Newburyport, Massachusetts, Court of Federal Claims No: 23-0252V

74. Peggy Evans, Dacula, Georgia, Court of Federal Claims No: 23-0254V

75. Richa Sharma, Reno, Nevada, Court of Federal Claims No: 23-0255V

76. Mary Ann Locke, Rochester, New York, Court of Federal Claims No: 23-0256V

77. Joseph Hernandez, West Bend, Wisconsin, Court of Federal Claims No: 23-0257V

78. Michael Erhart, Ottawa, Illinois, Court of Federal Claims No: 23-0258V

79. Andrea Walker, Washington, District of Columbia, Court of Federal Claims No: 23-0259V

80. Janice Caraballo, Waterbury, Connecticut, Court of Federal Claims No: 23-0260V

81. Nadia Noel, Phoenix, Arizona, Court of Federal Claims No: 23-0261V

82. Kristilee Maiella, Phoenix, Arizona, Court of Federal Claims No: 23-0262V

83. Vernon Scott, Rochester Hills, Michigan, Court of Federal Claims No: 23-0264V

84. Aaron Labelle, Marquette, Michigan, Court of Federal Claims No: 23-0265V

85. Shiloh Williams, Phoenix, Arizona, Court of Federal Claims No: 23-0266V

86. Andrea Leathers, Phoenix, Arizona, Court of Federal Claims No: 23-0268V

87. Dari Matilsky, Pomona, New York, Court of Federal Claims No: 23-0269V

88. Oana Repede, Raleigh, North Carolina, Court of Federal Claims No: 23-0270V

89. Wendy Newton, Boston, Massachusetts, Court of Federal Claims No: 23-0271V

90. Steele Campbell, Gilbert, Arizona, Court of Federal Claims No: 23-0272V

91. Doris Sawyers, Waynesboro, Mississippi, Court of Federal Claims No: 23-0273V

92. Debra Inman, Farmington, Illinois, Court of Federal Claims No: 23-0274V

93. Michael Edson, Pasadena, California, Court of Federal Claims No: 23-0275V

94. Kristen Hamlin, Greensboro, North Carolina, Court of Federal Claims No: 23-0278V

95. Eugene Lorenzo Wilson, New Lisbon, Wisconsin, Court of Federal Claims No: 23-0279V

96. Ryland Beutz, St. Cloud, Minnesota, Court of Federal Claims No: 23-0283V

97. Michael Ibarra, Houston, Texas, Court of Federal Claims No: 23-0284V

98. Srilatha Rachan, Mount Royal, New Jersey, Court of Federal Claims No: 23-0286V

99. Spencer Thornton, Castle Rock, Colorado, Court of Federal Claims No: 23-0287V

100. Thomas Worrell, Houston, Texas, Court of Federal Claims No: 23-0289V

101. Cathy Burgard, Mukilteo, Washington, Court of Federal Claims No: 23-0290V

102. Jordan Riccardi and Kiley Riccardi on behalf of G.R., Lakewood Ranch, Florida, Court of Federal Claims No: 23-0291V

103. Demonta L. Hambright. Milwaukee, Wisconsin, Court of Federal Claims No: 23-0292V

104. Samuel Smith and Jessica Smith on behalf of J.S., Sarasota, Florida, Court of Federal Claims No: 23-0293V

105. Annette Joseph-Gabriel and Steeve Joseph-Gabriel on behalf of A.J.G., Sarasota, Florida, Court of Federal Claims No: 23-0297V

106. Jon Eric Jensen, Chicago, Illinois, Court of Federal Claims No: 23-0299V

[FR Doc. 2023-05851 Filed 3-21-23; 8:45 am]

BILLING CODE 4165-15-P